ENVIRONMENTAL PROTECTION AGENCY

40 CFR Part 52

[PA168-4109a; FRL-7013-7]

Approval and Promulgation of Air Quality Implementation Plans; Pennsylvania; Control of VOCs From Wood Furniture Manufacturing, Surface Coating Processes and Other Miscellaneous Revisions

AGENCY: Environmental Protection Agency (EPA).

ACTION: Direct final rule.

SUMMARY: EPA is approving revisions to the Commonwealth of Pennsylvania State Implementation Plan (SIP) submitted on October 4, 2000 by the Pennsylvania Department of Environmental Protection (DEP). The revisions include the adoption of new VOC regulations for wood furniture manufacturing operations. These revisions also add new definitions, and amend or delete certain existing definitions for terms used in regulations pertaining to volatile organic compound (VOC) sources. The revisions also clarify the requirements Pennsylvania's surface coating regulations. Lastly, the revisions include minor amendments to Pennsylvania's regulations pertaining to sampling and testing methods. EPA is approving these revisions to the Commonwealth of Pennsylvania SIP in accordance with the requirements of the Clean Air Act (CAA).

DATES: This rule is effective on September 18, 2001 without further notice, unless EPA receives adverse written comment by August 20, 2001. If EPA receives such comments, it will publish a timely withdrawal of the direct final rule in the Federal Register and inform the public that the rule will not take effect.

ADDRESSES: Written comments should be mailed to David L. Arnold, Chief, Air Quality Planning & Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103, the Air and Radiation Docket and Information Center, U.S. Environmental Protection Agency, 401 M Street, SW., Washington, DC 20460, and the Pennsylvania Department of Environmental Protection, Bureau of Air Quality, P.O. Box 8468, 400 Market Street, Harrisburg, Pennsylvania 17105.

FOR FURTHER INFORMATION CONTACT: Rose Quinto, (215) 814-2182 or Ellen Wentworth, (215) 814-2034, at the EPA Region III address above, or by e-mail at quinto.rose@epa.gov or wentworth.ellen@epa.gov

SUPPLEMENTARY INFORMATION:

I. Description of the SIP Revision and EPA's Action

The information in this section is organized as follows:

A. What Action Is EPA Taking Today?

B. What Are the Provisions of the New and Revised Regulations?

C. Why Is EPA Approving These SIP Revisions?

D. What Is the Process for EPA Approval?

A. What Action Is EPA Taking Today?

EPA is approving revisions to the Commonwealth of Pennsylvania SIP which were submitted on October 4, 2000 by the Pennsylvania DEP. These SIP revisions amend 25 PA Code, Chapter 121, General Provisions, section 121.1, Definitions, to include the addition of new definitions, and the revision or deletion of certain existing definitions used in Chapter 129.

We are also approving revisions to 25 PA Code, Chapter 129, Standards for Sources, to add new sections, 129.101-129.107, Wood Furniture Manufacturing Operations, which establish presumptive reasonably available control technology (RACT) for wood manufacturing operations.

We are also approving revisions to 25 PA Code, Chapter 129, Standards for Sources, section 129.52, Surface Coating Processes, which clarifies which wood furniture manufacturing facilities are subject to section 129.52 and sections 129.101-129.107.

Finally, we are approving revisions to 25 PA Code, Chapter 139, Sampling and Testing, section 139.4, References, to reflect the correct name and address for the Pennsylvania Department of Environmental Protection and the Bureau of Air Quality, and section 139.14, Emissions of VOCs, to require that the test methods and procedures for the content of total volatiles, solids and exempt solvents be equivalent to those found at subsection 139.4(1) and (5).

B. What Are the New and Revised Regulations?

Chapter 121, General Provisions—Additions, Revisions, Deletions to Section 121.1, Definitions

This SIP revision adds definitions and revises or deletes certain existing definitions to Chapter 121, General Provisions, section 121.1 Definitions, for terms used in the substantive provisions of Chapter 129, Pennsylvania's regulations which contain VOC emission standards.

Additional definitions are provided for the following: Adhesive, Alternative method, As applied, As Supplied, Basecoat, CPDS—Certified Product Data Sheet, Coating, Coating solids or solids, Compliant coating, Continuous coater, Conventional air spray, Cosmetic specialty coatings, Enamel, Equivalent method, MSDS—Material Safety Data Sheet, Nonpermanent final finish, Normally closed container, Pollution prevention, Sealer, Stain, Strippable spray booth coating, Substrate, Thinner, Touch-up and repair, Wash-off operations, Waterborne coating, Wood furniture, Wood furniture component, and Wood furniture manufacturing operations.

The following definitions have been deleted to eliminate inconsistencies between definitions for the existing surface coating requirements in section 129.52, and the newly adopted presumptive RACT requirements for wood furniture manufacturing operations in sections 129.101-129.107: Clear sealers, Opaque ground coats and enamels, Other coatings, Semitransparent spray stains, and Semitransparent wiping and glazing stains.

These amendments also include revisions to the following existing definitions: Dip coating, Miscellaneous metal parts and products, Process, Surface coating process, Topcoat, VOC-volatile organic compound, and Washcoat.

Chapter 129, Standard for Sources—Revisions to Section 129.52, Surface Coating Processes

The amendments to section 129.52, Surface Coating Processes, serve to clarify and simplify existing requirements for surface coating processes. Summaries of the revised portions of section 129.52 are listed below.

Subsection 129.52(b)(1)—The amendments delete the existing language requiring adjustment to a standard solvent density and a solids basis. This adjustment is incorporated into revisions relating to allowable content of VOCs in surface coatings by process.

Subsection 129.52(b)(1)(i)—This amendment adds an equation for calculating the VOC content of the “as applied” coating on the basis of weight of VOC per volume of coating solids.

Subsection 129.52(b)(1)(ii)—This amendment adds an equation for calculating the VOC content of dip coatings on a 30-day rolling average basis. The methodology for calculating the VOC content includes the gallons of thinner added to the coating in the process over any consecutive 30-day period to replace evaporated solvent.

Subsection 129.52(b)(1)(iii)—This amendment adds an equation for calculating the VOC content on the basis of weight of VOC per weight of coatings solids.

Subsection 129.52(b)(1)(iv)—The equation for dip-coating operations has been deleted because it would have established more stringent requirements than the Federal Control Technique Guideline (CTG) for Wood Furniture Manufacturing Operations. Paragraph (v) has been renumbered.

Subsection 129.52(b)2—The existing equation for calculating the percentage of emission reductions needed for compliance purposes when using control equipment has been deleted. A new equation has been added for calculating the overall efficiency of the control system based on the new units of measurement in the regulation, which is the weight of VOC per volume of solids and weight of VOC per weight of solids.

Subsection 129.52(c)—This amendment deletes the existing list of required records and adds record keeping requirements that are appropriate to the required methods used to evaluate compliance as specified in the Source Testing Manual.

Subsection 129.52(f)—Amendments to this subsection add terms that are consistent with the “roller coating,” and “cosmetic specialty coatings” definitions specified in section 121.1, Definitions.

Subsection 129.52(g)—This amendment moves the existing requirement for maintaining records for two years from section 129.52(c) to section 129.52(g) to emphasize and add clarity to the amendments.

Subsection 129.52(h)—This amendment adds an exemption from VOC emission limitations for small quantities of coatings used for determination of product quality and commercial acceptance, touch-up and repair, and other small quantity coatings. This subsection requires the facility owner or operator to submit a written request to the Department to exempt quantities of coating which do not exceed 50 gallons a year for a single coating, and a total of 200 gallons each year for all coatings combined for the facility. The Department's written approval must be obtained prior to the use of the exempted coatings.

Chapter 129, Section 129.91, Control of Major Sources of NOX and VOCs—Revisions to Section 129.91 Subsection(a)

The amendment to subsection(a) clarifies the RACT requirements applicable to wood furniture manufacturing facilities subject to section 129.52, Category 11 (relating to surface coating processes) and sections 129.101-129.107 (wood furniture and manufacturing operations).

Chapter 129, Standards for Sources—Addition of Sections 129.101-129.107, Wood Furniture Manufacturing Operations

This SIP revision adds sections 129.101-107, Wood Furniture Manufacturing Operations, to 25 PA Code, Chapter 129, Standards for Sources, establishing requirements to control VOC emissions from wood furniture manufacturing operations including wood furniture finishing, cleaning, and wash-off operations. These regulations are based upon EPA's CTG for the control of VOCs from wood furniture manufacturing operations and establish presumptive RACT requirements for certain wood manufacturing operations. Summary of the provisions of the new regulations are provided below.

Section 129.101, General Provisions and Applicability

Subsection 129.101(a) states that sections 129.101-129.107 apply to each wood furniture manufacturing facility located in a Pennsylvania county located in the northeast ozone transport region or in a county classified as severe, serious, moderate or marginal nonattainment for ozone, and which emits or has the potential to emit (PTE) 25 tons or more per year of VOCs from wood furniture manufacturing operations. The most stringent VOC emission limits will apply to a wood furniture manufacturing operation that meets the applicable threshold limits for both section 129.52, relating to surface coating processes, and sections 129.101-129.107.

Subsection 129.101(b) requires the owner or operator of an existing wood furniture manufacturing facility subject to the conditions of subsection (a) above to comply with the requirements of the new regulations within one year from the effective date of the final rulemaking. This compliance deadline does not apply to facilities which have RACT determinations approved by EPA as SIP revisions prior to June 10, 2000.

Subsection 129.101(c) provides a compliance deadline for the owner or operator of an existing wood furniture manufacturing facility which increases its actual emissions or PTE to 25 tons per year or more of VOCs from wood furniture manufacturing operations to comply with this section and sections 129.102-129.107. Within one (1) year after increasing actual VOC emissions or the PTE to 25 tons per year or more, the owner or operator of the affected facility must comply with sections 129.101-129.107, except for those facilities which have RACT determinations approved by EPA as SIP revisions prior to June 10, 2000.

Subsection 129.101(d) establishes a compliance date for existing facilities that install new sources. New sources installed at an existing facility must meet, at a minimum, the VOC emission standards of section 129.102 upon installation of the new source. This provision does not exempt a new source(s) installed at an existing facility from applicable new source review requirements.

Subsection 129.101(e) describes the interface between the existing surface coating requirements in section 129.52, Surface Coating Processes, and the presumptive RACT requirements for wood furniture manufacturing. If actual or potential VOC emissions would subject the facility to both sections 129.52 and 129.101-129.107, the owner or operator would only have to demonstrate compliance with the most stringent emissions limitations.

Subsection 129.101(f) describes the exemptions from the VOC emission limits in section 129.102. The limits in this section do not apply to a coating used exclusively for determining product quality and commercial acceptance, touch-up and repair, and other small quantity coatings, if the quantity of coating does not exceed 50 gallons per year for a single coating, and a total of 200 gallons per year for all coatings combined for the facility. The owner or operator of the facility must submit a written request to the Department which must be approved prior to the use of the coatings.

Section 129.102. Emission Standard

This section includes the emission limits of VOCs for wood furniture manufacturing sealers, topcoats, and strippable spray booth coatings that are actually used for coating the substrate, and the methodology for compliance.

Section 129.103. Work Practice Standards

This section establishes work practice standards to reduce VOC emissions from wood furniture manufacturing operations. The work practice standards include the development of a work practice implementation plan and operator training program, a leak inspection and maintenance plan, and a cleaning and wash-off solvent accounting system.

Subsection 129.103(a) requires the owner or operator of a facility subject to the requirements in sections 129.101-129.107 to develop and maintain a written work practice implementation plan no later than 60 days after the compliance date specified in section 129.101(b) or (c). The work practice implementation plan must include an operator training program, spray booth cleaning requirements, storage requirements, and application equipment requirements. The owner or operator of the facility must comply with each provision of the work practice implementation plan. The written plan must be available for inspection by the Department. If the Department determines that the work practice implementation plan does not adequately address the criteria specified in subsections 129.103(b)-(j), the owner or operator must revise the plan.

Subsection 129.103(b) describes the elements of the operator training program. A copy of the required operator training program must be maintained with the work practice implementation plan. All new and existing personnel, including contract personnel, who are involved in coating, cleaning or wash-off operations, or implementation of the requirements in sections 129.101-129.107, must complete the operator training program according to the dates specified in this subsection.

Subsection 129.103(c) lists the requirements for the leak inspection and maintenance plan including inspection schedules, inspection documentation methods, and repair and maintenance time frames.

Subsection 129.103(d) describes the requirements pertaining to the cleaning and wash-off solvent accounting system. A solvent accounting form must be developed for recording information pertaining to the solvents used in cleaning and wash-off operations.

Subsection 129.103(e) provides work practices for spray booth cleaning. The owners or operators of a facility may not use compounds containing more than 8.0 percent by weight of VOC for cleaning spray booth components other than conveyors, continuous coaters and their enclosures, or metal filters, unless the spray booth is being refurbished. When a spray booth is being refurbished, no more than one gallon of organic solvent can be used to prepare the booth prior to applying the new strippable booth coating. The strippable booth coating shall contain no more than 0.8 lb VOC/lb solids (0.8 kg VOC/kg solids), as applied.

Section 129.03(f) pertains to storage requirements. It requires the owner or operator of a facility to use normally closed containers for storing coating, cleaning and wash-off materials.

Subsection 129.103(g) describes the work practice standards for application equipment and limits the use of conventional air spray guns. The use of conventional air spray guns is prohibited if the conventional air spray guns are not used in accordance with the procedures in subsection 129.103(g)(1)-(6).

Subsection 129.103(h) describes the work practice standards used for line cleaning solvent. The solvent used for line cleaning must be pumped or drained into a normally closed container.

Subsection 129.103(i) describes the work practice standards for the solvent used to clean spray guns. The solvent used to clean spray guns must be collected into a normally closed container.

Subsection 129.103(j) describes the work practice standards for the control of emissions from wash-off operations. The emissions from wash-off operations must be controlled by using normally closed containers for the wash-off operations, and by tilting or rotating the part to drain as much of the solvent off as possible.

Section 129.104, Compliance Procedures and Monitoring Requirements

This section describes compliance procedures and monitoring requirements used to demonstrate compliance with the presumptive RACT regulations for wood furniture manufacturing operations. The owner or operator of a facility subject to the emission standards of section 129.102 must demonstrate compliance through the use of compliant coatings, add-on control devices, an emissions-averaging approach, or a combination of these compliance methods. When a combination of compliance options is selected, the owner or operator must demonstrate compliance with each applicable compliance technique.

Subsection 129.104(a) describes the methods and procedures an owner or operator of the facility must used to demonstrate compliance with the VOC emission standards in section 129.102 (relating to emission standards). The owner or operator must maintain a Certified Product Data Sheet (CPDS) for each coating that is subject to the VOC emission limits and maintain records which demonstrate that each coating, as applied, meets the applicable VOC emission limit. When a control system is used to meet the VOC emission limits, the overall control efficiency must be calculated using the equations in subsection 129.104(a)(2).

Subsection 129.104(b) describes the requirements for initial compliance.

Subsection 129.104(b)(1) requires the owners or operators of a facility demonstrating compliance through the use of compliant coatings to submit an initial compliance status report in accordance with subsection 129.106(a) specifying whether compliant sealers, topcoats and strippable spray booth coatings are being used by the facility.

Subsection 129.104(b)(2) explains the initial compliance requirements for facilities using a continuous coater to apply sealers, topcoats, or both. To demonstrate initial compliance, the owners or operators are required to submit an initial compliance status report. The report must specify either that compliant sealers, topcoats, or both, as determined by the VOC content of the coating in the reservoir and as calculated from records, are being used, or that compliant sealers, topcoats, or both, as determined by the VOC content of the coating in the reservoir are being used, and the viscosity of the coating in the reservoir is being monitored.

Subsection 129.104(b)(3) requires users of control systems to include the operating parameter values to be monitored for the capture device, and the results of the initial performance testing, in the initial compliance report. The procedures and test methods must meet the requirements specified in Chapter 139 (relating to sampling and testing).

Subsection 129.104(b)(4) requires that an owner or operator of a facility subject to the work practice standards of section 129.103 submit an initial compliance status report as required by subsection 129.106(a).

Subsection 129.104(c) pertains to continuous compliance demonstrations, and requires the owner or operator of a facility subject to the presumptive RACT requirements to submit a compliance certification in writing to the Department with the semiannual report required under subsection 129.106(b).

Subsection 129.104(c)(1) requires facilities that use compliant coatings to demonstrate continuous compliance to maintain records and prove that the coatings used in their operations are compliant coatings. The compliance certification must also state that compliant sealers, topcoats, or both, and strippable spray booth coatings have been used each day in the semiannual reporting period and must identify the days of noncompliance and the reasons for noncompliance.

Subsection 129.104(c)(2) explains the continuous compliance requirements for facilities using continuous coaters to apply sealers, topcoats, or both. The compliance certification submitted to the Department must include a statement that compliant sealers, topcoats, or both have been used each day in the semiannual reporting period. If the facility has not been in continuous compliance, the certification must include the days of noncompliance, and the reason for noncompliance.

Subsection 129.104(c)(3) specifies the requirements for facilities that demonstrate continuous compliance by using a control system. Owners or operators of affected sources are required to install, calibrate, maintain and operate monitoring equipment that has been approved, in writing, by the Department. If the facility is using a control system that is not described in section 129.104, approval by the Department must be obtained prior to using the control system. The request for approval of the control system must include the following: a description of the system, test data verifying the performance of the system, the appropriate operating parameter values that will be monitored, and the monitoring device that will be used to demonstrate continuous compliance with the standard. The compliance certification for the control system must specify that the control system has not been operated at a daily average value greater than or less than (as appropriate) the operating parameter value for each day in the semiannual reporting period. If the operating parameter value is not in compliance, the certification must identify the days of noncompliance and the reason for noncompliance.

Subsection 129.104(c)(4) requires that each owner or operator of a facility that is subject to the work practice standards of section 129.103 demonstrate continuous compliance by following the work practice implementation plan. The compliance certification must state that the work practice implementation plan is being followed, or should otherwise identify the periods of noncompliance with the work practice standards and the reasons for noncompliance.

Subsection 129.104(d) requires compliance certifications to be signed by a responsible official of the company. In addition to the certification requirements of this section, the certification must state that based on information and inquiry, the statements and information in the document are true, accurate and complete.

Section 129.105, Record keeping Requirements

This section establishes record keeping requirements for wood furniture manufacturing operations. The owners or operators of affected facilities must keep adequate records to demonstrate compliance with the requirements in sections 129.101-129.107. The records must be maintained for at least 5 years. This section also includes specific record keeping requirements for facilities using compliant coatings, continuous coaters, control systems, or a combination of these methods. The record keeping requirements of subsections (a), (b), and (c) are to include the following:

(1) A certified product data for each coating and strippable spray booth coating.

(2) Records of the VOC content of the as applied coating. lbs VOC/lb solids (kg VOC/kg solids), of each coating and strippable spray booth coating, and copies of data sheets documenting how the as applied values were determined. Owners or operators applying sealers, topcoats or both, using continuous coaters must also keep records of solvent and coating additions to the continuous coater reservoir and viscosity measurements.

Subsection 129.105(d) prescribes additional record keeping requirements for control systems which include copies of the calculations to support the equivalency of using a control system and records of the daily average value of each continuously monitored parameter for each operating day. If all recorded values for a monitored parameter are within the range established during the initial performance test, the owner or operator may record that all values were within the range rather than calculating and recording an average for that day.

Subsection 129.105(e) specifies that a copy of the work practice implementation plan and all records associated with meeting the requirements of that plan must be maintained on site. The records kept for the work implementation plan must also satisfy the record keeping requirements for applicable provisions of the work practice implementation plan including the operator training program, the leak inspection and maintenance plan, the cleaning and wash-off solvent accounting system, and restrictions on the use of conventional air spray guns.

Subsection 129.105(f) requires the owner or operator of a facility that complies with section 129.103 or section 129.104(a)(1) to maintain a copy of the compliance certifications submitted in accordance with section 129.106(a) and the semiannual reports required by section 129.106(b).

Subsection 129.105(g) requires the owner or operator of a facility to maintain a copy of the other information submitted with the initial status report required under 129.106(a) and the semiannual reports required by section 129.106(b).

Section 129.106, Reporting Requirements

This section establishes reporting requirements for wood furniture manufacturing operations subject to the presumptive RACT requirements of sections 129.101-129.107.

Subsection 129.106(a) requires owners or operators of affected facilities to submit an initial compliance report to the Department no later than 60 days after the compliance date specified in section 129.101(b) and (c). The report must include the items required under section 129.104(b).

Subsection 129.106(b) requires the submittal of semiannual reports certifying compliance for the previous 6 months of wood furniture manufacturing operations. The first report should be submitted to the Department within 30 calendar days after the end of the first six-month period following the compliance date. Subsequent reports must be submitted within 30 calendar days after the end of each six-month period following the first report. Each semiannual report must include the information required by section 129.104(c) and (d), a statement of whether the facility was in compliance or noncompliance and, if the facility was in noncompliance, the measures taken to bring the facility into compliance.

Section 129.107, Special Provisions for Facilities Using an Emission Averaging Approach

This section allows the owners or operators of manufacturing operations to comply with the VOC emission limitations by averaging emissions across wood furniture finishing lines using the emissions averaging approach. The wood furniture manufacturing operation may use stains, basecoats, washcoats, sealers, and topcoats in any emissions averaging program that meets the equivalency requirements in section 129.51(a). The facility may use other coatings for its emissions averaging program if the averaging approach meets the equivalency requirements. The emissions averaging program submitted to the Department for approval prior to use must include a summary of the reasons why the facility would like to comply with the emission limitations through an equivalency determination using emissions averaging procedures. The program summary must also include an explanation of how averaging can be used to meet the emission limitations and a description of the types of coatings that will be included in the facility's emissions averaging program. An additional 10% reduction in emissions is required under subsection (b) for affected facilities using the emissions averaging approach.

Subsection 129.107(c) requires the owner or operator of the facility to submit a written summary to the Department explaining why the emissions averaging program should be used to demonstrate compliance. The written summary must also explain how emissions averaging can be used to meet the emissions limitations.

Subsection 129.107(d) requires the owner or operator of the facility to describe the types of coatings that will be included in the emissions averaging program. Coatings used in an averaging program may include basecoats, sealers, stains, topcoats, and washcoats. Coatings in the emissions averaging program cannot be applied using a continuous coater unless the amount of coating used is determined on a daily basis.

Subsection 129.107(e) specifies that the baseline for each coating included in the emissions averaging program shall be the lower of the actual or allowable emission rate as of the effective date of these regulations. The baseline emission rate for the facility may not be higher than what was presumed in the 1990 emissions inventory for the facility unless the Department has accounted for the increase in emissions as growth.

Subsection 129.107(f) provides that the quantification procedures used in the emissions averaging program must demonstrate that the facility's actual emissions are less than the allowable emissions.

Subsection 129.107(g) requires that the emissions averaging program submitted to the Department include monitoring, record keeping and reporting procedures that will allow Department inspectors or owners or operators of facilities using an averaging approach to determine the facility's compliance status on a daily basis. The monitoring, record keeping and reporting procedures must also include methods for determining required data when monitoring, record keeping and reporting violations result in missing, inadequate or erroneous monitoring and record keeping.

Chapter 139, Sampling and Testing, Subchapter A. Sampling and Testing Methods and Procedures—Revisions to Section 139.4, References, and 139.14, Emissions of VOCs

Section 139.4, References—The revisions to this section reflect the name change from the Pennsylvania Department of Environmental Resources to the Pennsylvania Department of Environmental Protection, and the name change from the Bureau of Air Quality Control to the Bureau of Air Quality.

Section 139.14, Emissions of VOCs—The amendments to this section require that the test methods and procedures for the content of total volatiles, solids and exempt solvents be equivalent to those listed in section 139.4(1), Standards of Performance for New Stationary Sources, and 139.4(5), Source Testing Manual.

C. Why Is EPA Approving These SIP Revisions?

Section 183(a) of the Clean Air Act (CAA) requires the EPA Administrator to issue control techniques guidelines (CTG)s for 11 categories of stationary sources of VOCs. On May 20, 1996, the EPA published a CTG document for control of VOCs from wood furniture finishing, cleaning and washoff operations (61 FR 25223 (May 20, 1996). This CTG established a “presumptive norm” RACT for the control of VOCs for wood furniture manufacturing facilities located in marginal, moderate, serious, and severe ozone nonattainment areas or ozone transport regions, that emit or have the PTE 25 tons per year or more of VOCs. The CTG and model rule for wood furniture manufacturing operations were developed by the EPA after reaching consensus among representatives from the environmental community, the wood furniture industry, and state permitting agencies. On September 27, 1996, EPA published an addendum to the CTG which specified dates for the adoption and implementation of the standards. EPA is approving the addition of sections 129.101-129.107, Wood Furniture Manufacturing Operations to 25 PA Code, Chapter 129 because this addition implements the Federal presumptive RACT requirements for wood furniture manufacturing operations established in EPA's CTG for wood furniture manufacturing operations as mandated by Section 182 of the CAA.

EPA is approving the additions, deletions, and revisions to definitions in Chapter 121, section 121.1, Definitions, because they are terms used in the substantive sections of Chapter 129 and satisfy all applicable Federal requirements and policies.

The revisions to section 129.52, relating to surface coating processes, are the fourth in a series of changes implementing the Commonwealth's Regulatory Basics Initiative (RBI) and Executive Order 1996-1. As part of the Commonwealth's RBI, the Pennsylvania DEP was tasked to review the Commonwealth's existing regulations and identify those that were more stringent than Federal requirements, were obsolete, redundant, or no longer necessary. EPA is approving the revisions to section 129.52, Surface Coating Processes, because they clarify the existing requirements for surface coating processes.

The amendment to section 129.91, Control of Major Sources of NOX and VOCs subsection (a) is approved since it will serve to clarify the relationship between the existing case-by-case RACT requirements and the newly adopted presumptive RACT requirements for wood furniture manufacturing operations.

The revisions to Chapter 139, sections 139.4 and 139.14 are approved since they were also identified during the Commonwealth's Regulatory Basics Initiative. As stated previously, the revision to section 139.4 corrects the name for the Department, and the revision to section 139.14 adds several applicable terms.

D. What Is the Process for EPA Approval of This Action?

EPA is publishing this rule without prior proposal because the Agency views this as a noncontroversial amendment and anticipates no adverse comment. However, in the “Proposed Rules” section of today's Federal Register, EPA is publishing a separate document that will serve as the proposal to approve the SIP revision if adverse comments are filed. This rule will be effective on September 18, 2001 without further notice unless EPA receives adverse comment by August 20, 2001. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

II. Final Action

EPA is approving the revisions to the Commonwealth of Pennsylvania SIP submitted by the Pennsylvania DEP on October 4, 2000. The revisions amend Chapter 121, General Provisions, section 121.1, Definitions; Chapter 129, Standards for Sources, section 129.52, Surface Coating Processes; Chapter 129, Standards for Sources, section 129.91, Control of Major Sources of NOX and VOCs, subsection (a); add sections 129.101-129.107, Wood Furniture Manufacturing Operations to Chapter 129, Standards for Sources; and amend Chapter 139, Sampling and Testing, sections 139.4 and 139.14. i

III. What Are the Administrative Requirements?

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 Fed. Reg. 28355 May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by September 18, 2001. Filing a petition for reconsideration by the Administrator of this final rule approving revisions to Pennsylvania's volatile organic compounds regulations, and the adoption of new regulations for wood furniture manufacturing operations does not affect the finality of this rule for the purposes of judicial review nor does it extend the time within which a petition for judicial review may be filed, and shall not postpone the effectiveness of such rule or action. This action may not be challenged later in proceedings to enforce its requirements. (See section 307(b)(2).

List of Subjects in 40 CFR Part 52

Environmental protection, Air pollution control, Hydrocarbons, Incorporation by reference, Intergovernmental relations, Ozone, Reporting and recordkeeping requirements.

Dated: July 5, 2001.
James W. Newsom,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(152) to read as follows:

§ 52.2020 Identification of plan.

* * * * *

(c) * * *

(152) Revisions to the Commonwealth of Pennsylvania Regulations pertaining to certain VOC regulations submitted on October 4, 2000 by the Pennsylvania Department of Environmental Protection:

(i) Incorporation by reference.

(A) Letter of October 4, 2000 from the Pennsylvania Department of Environmental Protection transmitting the revisions to VOC regulations.

(B) Revisions to 25 PA Code, effective June 10, 2000.

(1) Additions, Deletions and Revisions to Chapter 121, General Provisions, section 121.1, Definitions.

(2) Revisions to Chapter 129, Standards for Sources, Sources of VOC, section 129.52, Surface Coating Processes.

(3) Revision to Chapter 129, Standards for Sources, section 129.91, Control of Major Sources of NOX and VOCs, subsection (a).

(4) Addition to Chapter 129, Standards for Sources of sections 129.101-129.107, Wood Furniture Manufacturing Operations.

(5) Revisions to Chapter 139, Sampling and Testing, section 139.4, References, and section 139.14, Emissions of VOCs.

(ii) Additional Material.—Remainder of October 4, 2000 submittal.

[FR Doc. 01-18186 Filed 7-19-01; 8:45 am]

BILLING CODE 6560-50-P